DEPARTMENT OF COMMERCE

International Trade Administration

[A-520-803]

Polyethylene Terephthalate Film, Sheet and Strip From the United Arab Emirates: Partial Rescission of Antidumping Duty Administrative Review; 2012-2013

AGENCY: Enforcement and Compliance, International Trade Administration, Department of Commerce

DATES: Effective Date: April 23, 2014.

FOR FURTHER INFORMATION CONTACT: Andrew Huston, Office VII, Antidumping and Countervailing Duty Operations, Enforcement and Compliance, International Trade Administration, U.S. Department of Commerce, 14th Street and Constitution Avenue NW., Washington, DC 20230; telephone: (202) 482-4261.

Background

On November 1, 2013, the Department of Commerce (Department) published a notice of opportunity to request an administrative review of the antidumping duty (AD) order on polyethylene terephthalate film, sheet and strip from the United Arab Emirates covering the period November 1, 2012, through October 31, 2013.¹ The Department received a timely request from Petitioners ² for an AD administrative review of two companies: JBF RAK LLC (JBF) and Flex Middle East FZE (Flex).³ In addition, the Department received a timely request for an AD review of itself from JBF.⁴ On December 30, 2013, the Department published a notice of initiation of administrative review with respect to Flex and JBF.⁵ On March 31, 2014, petitioners withdrew their request for an AD administrative review of Flex.⁶

¹ See Antidumping or Countervailing Duty Order, Finding, or Suspended Investigation; Opportunity To Request Administrative Review, 78 FR 65612, 65613 (November 1, 2013).

² Petitioners are DuPont Teijin Films, Mitsubishi Polyester Film, Inc., SKC, Inc., and Toray Plastics (America), Inc.

³ See Petitioners' letter, “Polyethylene Terephthalate (PET) Film, Sheet, and Strip from United Arab Emirates: Request for Antidumping Duty Administrative Review,” dated December 2, 2013.

⁴ See JBF's letter, “JBF RAK LLC/Request for A/D Administrative Review: Polyethylene Terephthalate (PET) Film, Sheet, and Strip from United Arab Emirates,” dated November 29, 2013.

⁵ See Initiation of Antidumping and Countervailing Duty Administrative Reviews and Requests for Revocation in Part, 78 FR 79392 (December 30, 2013).

⁶ See Petitioners' letter “Withdrawal of Request for Antidumping Duty Administrative Review of Flex Middle East FZE,” dated March 31, 2014.

Rescission in Part

Pursuant to 19 CFR 351.213(d)(1), the Secretary will rescind an administrative review, in whole or in part, if a party that requested the review withdraws the request within 90 days of the date of publication of the notice of initiation of the requested review. Petitioners' March 31, 2014 withdrawal request was submitted within the 90-day period and thus is timely.⁷ Because Petitioners' withdrawal of their requests for review is timely and because no other party requested a review of Flex, we are rescinding this review with respect to this company, in accordance with 19 CFR 351.213(d)(1). The request from petitioners for an administrative review of JBF has not been withdrawn. As such, we are not rescinding the review with respect to JBF.

⁷ The 90th day fell on March 30, 2014. However, because this day fell on a weekend, the actual due date is the following business day, i.e., March 31, 2014. See Notice of Clarification: Application of “Next Business Day” Rule for Administrative Determination Deadlines Pursuant to the Tariff Act of 1930, as Amended, 70 FR 24533, 24533 (May 10, 2005).

Assessment

The Department will instruct U.S. Customs and Border Protection (CBP) to assess ADs on all appropriate entries. Subject merchandise of Flex will be assessed ADs at rates equal to the cash deposit of estimated ADs required at the time of entry, or withdrawal from warehouse, for consumption, in accordance with 19 CFR 351.212(c)(1)(i). The Department intends to issue assessment instructions to CBP 15 days after the date of publication of this notice.

Notification to Importers

This notice serves as a final reminder to importers for whom this review is being rescinded, as of the publication date of this notice, of their responsibility under 19 CFR 351.402(f)(2) to file a certificate regarding the reimbursement of ADs prior to liquidation of the relevant entries during this review period. Failure to comply with this requirement could result in the Secretary's presumption that reimbursement of the ADs occurred and the subsequent assessment of double ADs.

Notification Regarding Administrative Protective Orders

This notice also serves as a final reminder to parties subject to administrative protective order (APO) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

This notice is issued and published in accordance with section 777(i)(1) of the Tariff Act of 1930, as amended, and 19 CFR 351.213(d)(4).

Dated: April 17, 2014.
James Maeder,
Director, Office II, Antidumping and Countervailing Duty Operations.

[FR Doc. 2014-09282 Filed 4-22-14; 8:45 am]

BILLING CODE 3510-DS-P